DEPARTMENT OF TRANSPORTATION

Federal Aviation Administration

14 CFR Part 71

[Docket FAA 2003-16460; Airspace Docket 02-ANM-16]

Establishment of Class E Airspace; Aspen, CO

AGENCY: Federal Aviation Administration (FAA), DOT.

ACTION: Final rule.

SUMMARY: This final rule will establish Class E airspace at Aspen, CO. A reduction in operating hours of Class D airspace service at Aspen-Pitkin County/Sardy Field makes this action necessary. This Class E airspace extending upward from the surface of the earth will provide a controlled environment for the safety of aircraft executing Instrument Flight Rules (IFR) operations outside the hours of Class D airspace service.

DATES: 0901 UTC July 07, 2005.

FOR FURTHER INFORMATION CONTACT: Ed Haeseker, Federal Aviation Administration, Western En Route and Oceanic Area Office, Airspace Branch, 1601 Lind Avenue, SW., Renton, WA 98055-4056; telephone (425) 227-2527.

SUPPLEMENTARY INFORMATION:

History

On March 19, 2004, the FAA proposed to amend Title 14 Code of Federal Regulations part 71 (14 CFR part 71) to establish Class E airspace at Aspen, CO, (69 FR 12993). The proposed action would provide Class E airspace during the hours Class D airspace service is not available at Aspen-Pitkin County/Sardy Field Aspen, CO. This Class E airspace extending upward from the surface of the earth will provide a controlled environment for the safety of aircraft executing IFR operations outside the hours of Class D airspace service.

Interested parties were invited to participate in this rule making proceeding by submitting written comments on the proposal to the FAA. No comments were received. Class E airspace designations are published in paragraph 6002 of FAA Order 7400.9M dated August 30, 2004, and effective September 16, 2004, which is incorporated by reference in 14 CFR part 71.1. The Class E airspace designations listed in this document will be published subsequently in that order.

The Rule

This amendment to 14 CFR part 71 establishes Class E airspace at Aspen, CO, by providing additional controlled airspace for aircraft executing IFR procedures at Aspen-Pitkin County/Sardy Field during the hours Class D airspace service is not available. This Class E airspace extending upward from the surface of the earth will provide a controlled environment for the safety of aircraft executing IFR operations outside the hours of Class D airspace service.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS.

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR part 71.1 of the Federal Aviation Administration Order 7400.9M, Airspace Designations and Reporting Points, dated August 30, 2004, and effective September 16, 2004, is amended as follows:

Paragraph 6002 Class E Airspace area extending upward from the surface of the earth.

* * * * *

ANM OR E2 Aspen, CO [Added]

Aspen-Pitkin County/Sardy Field

(Lat. 39°13′23″ N., long. 106°52′08″ W.)

Within a 4.3-mile radius of Aspen-Pitkin County/Sardy Field. This Class E airspace is effective during specific dates and times established in advance by a Notice to Airmen. The effective date and time will thereafter be continuously published in the Airport/Facility Directory.

* * * * *

Issued in Seattle, Washington on June 10, 2005.
Raul C. Treviño,
Area Director, Western En Route and Oceanic Operations.

[FR Doc. 05-13644 Filed 7-11-05; 8:45 am]

BILLING CODE 4910-13-M